DEPARTMENT OF ENERGY

Federal Energy Regulatory Commission

Combined Notice of Filings

Take notice that the Commission has received the following Natural Gas Pipeline Rate and Refund Report filings:

Filings Instituting Proceedings

Docket Numbers: RP22-416-000.

Applicants: ANR Pipeline Company.

Description: § 4(d) Rate Filing: ANR—Citadel Energy Negotiated Rate Agreement No. 136886 to be effective 12/15/2021.

Filed Date: 12/15/21.

Accession Number: 20211215-5092.

Comment Date: 5 p.m. ET 12/27/21.

Docket Numbers: RP22-417-000.

Applicants: Tennessee Gas Pipeline Company, L.L.C.

Description: § 4(d) Rate Filing: TGP PCG Pooling to be effective 1/17/2022.

Filed Date: 12/15/21.

Accession Number: 20211215-5172.

Comment Date: 5 p.m. ET 12/27/21.

Docket Numbers: RP22-418-000.

Applicants: Columbia Gulf Transmission, LLC.

Description: § 4(d) Rate Filing: LAXP Tariff Implementation, Waiver and Request for Shortened Comment Period to be effective 1/7/2022.

Filed Date: 12/15/21.

Accession Number: 20211215-5187.

Comment Date: 5 p.m. ET 12/27/21.

Docket Numbers: RP22-419-000.

Applicants: Total Peaking Services, L. L. C.

Description: Compliance filing: TPS Order No. 587-Z Compliance Filing Changes to be effective 6/1/2022.

Filed Date: 12/15/21.

Accession Number: 20211215-5218.

Comment Date: 5 p.m. ET 12/27/21.

Docket Numbers: RP22-420-000.

Applicants: Portland Natural Gas Transmission System.

Description: Compliance filing: 2021 Fuel Mechanism Report to be effective N/A.

Filed Date: 12/15/21.

Accession Number: 20211215-5261.

Comment Date: 5 p.m. ET 12/27/21.

Docket Numbers: RP22-421-000.

Applicants: NEXUS Gas Transmission, LLC.

Description: § 4(d) Rate Filing: Negotiated Rates—CNX to Direct Energy 962064 to be effective 12/17/2021.

Filed Date: 12/16/21.

Accession Number: 20211216-5090.

Comment Date: 5 p.m. ET 12/28/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 16, 2021.
Debbie-Anne A. Reese,
Deputy Secretary.

[FR Doc. 2021-27738 Filed 12-21-21; 8:45 am]

BILLING CODE 6717-01-P